DEPARTMENT OF THE INTERIOR

National Park Service

[2253-665]

Notice of Inventory Completion: Slater Museum of Natural History, University of Puget Sound, Tacoma, WA

AGENCY: National Park Service, Interior.

ACTION: Notice.

SUMMARY: The Slater Museum of Natural History, University of Puget Sound has completed an inventory of human remains, in consultation with the appropriate Indian tribes, and has determined that there is no cultural affiliation between the human remains and any present-day Indian tribe. Representatives of any Indian tribe that believes itself to be culturally affiliated with the human remains may contact the Slater Museum of Natural History, University of Puget Sound. Disposition of the human remains to the Indian tribes stated below may occur if no additional requestors come forward.

DATES: Representatives of any Indian tribe that believes it has a cultural affiliation with the human remains should contact the Slater Museum of Natural History, University of Puget Sound at the address below by August 22, 2011.

ADDRESSES: Peter Wimberger, Slater Museum of Natural History, University of Puget Sound, 1500 North Warner St., Tacoma, WA 98416-1088, telephone (253) 879-2784.

SUPPLEMENTARY INFORMATION: Notice is here given in accordance with the Native American Graves Protection and Repatriation Act (NAGPRA), 25 U.S.C. 3003, of the completion of an inventory of human remains in the possession of the Slater Museum of Natural History, University of Puget Sound, Tacoma, WA. The human remains were removed from “Western Washington.”

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by Slater Museum of Natural History, University of Puget Sound professional staff in consultation with representatives of the Confederated Tribes and Bands of the Yakama Nation, Washington; Confederated Tribes of the Chehalis Reservation, Washington; Cowlitz Indian Tribe, Washington; Hoh Indian Tribe of the Hoh Indian Reservation, Washington; Jamestown S'Klallam Tribe of Washington; Lower Elwha Tribal Community of the Lower Elwha Reservation, Washington; Lummi Tribe of the Lummi Reservation, Washington; Makah Indian Tribe of the Makah Indian Reservation, Washington; Muckleshoot Indian Tribe of the Muckleshoot Reservation, Washington; Nisqually Indian Tribe of the Nisqually Reservation, Washington; Nooksack Indian Tribe of Washington; Port Gamble Indian Community of the Port Gamble Reservation, Washington; Puyallup Tribe of the Puyallup Reservation, Washington; Quileute Tribe of the Quileute Reservation, Washington; Quinault Tribe of the Quinault Reservation, Washington; Samish Indian Tribe, Washington; Sauk-Suiattle Indian Tribe of Washington; Shoalwater Bay Tribe of the Shoalwater Bay Indian Reservation, Washington; Skokomish Indian Tribe of the Skokomish Reservation, Washington; Snoqualmie Tribe, Washington; Squaxin Island Tribe of the Squaxin Island Reservation, Washington; Stillaguamish Tribe of Washington; Suquamish Indian Tribe of the Port Madison Reservation, Washington; Swinomish Indians of the Swinomish Reservation, Washington; Tulalip Tribes of the Tulalip Reservation, Washington; and the Upper Skagit Indian Tribe of Washington (hereinafter referred to as “The Tribes”). In addition, the Slater Museum of Natural History, University of Puget Sound professional staff consulted with the following non-Federally recognized Indian groups: Chinook Tribe, Duwamish Tribe, Kikiallus Nation, Marietta Band of Nooksack Indians, Snohomish Tribe, Snoqualmoo Tribe, and Steilacoom Indian Tribe (hereinafter referred to as “The Indian Groups”). The Slater Museum of Natural History, University of Puget Sound received responses from the Confederated Tribes and Bands of the Yakama Nation, Washington; Puyallup Tribe of the Puyallup Reservation, Washington; Skokomish Indian Tribe of the Skokomish Reservation, Washington; and the Squaxin Island Tribe of the Squaxin Island Reservation, Washington. Skokomish Indian Tribe of the Skokomish Reservation, Washington requested a status report on the disposition of the remains, but made no claim for disposition. The Puyallup Tribe of the Puyallup Reservation, Washington, and Confederated Tribes and Bands of the Yakama Nation, Washington, submitted a NAGPRA claim for the individual described in this Notice of Inventory Completion. The Squaxin Island Tribe of the Squaxin Island Reservation, Washington, supported the disposition of the individual to these two Indian tribes.

History and Description of the Remains

At an unknown date prior to 1970, human remains representing a minimum of one individual were removed from “Western Washington.” The remains were stored at the University of Puget Sound's Department of Comparative Sociology since at least the 1970s. In late Fall 2006 the remains were transferred to the Slater Museum by University staff. There is no record of the excavator, donor, date of removal, or exact provenience, except for “Western Washington.” No known individual was identified. No associated funerary objects are present.

Elements present include a cranium and a mandible. No cranial deformation is present and the mandible is missing five teeth postmortem. The remains are overall very clean and of a dark mottled coloration. Small roots are present in the nasal cavity and sediments are found endocranially, suggesting the individual was likely removed from an archeological context. Slight cortical exfoliation is present on both the cranium and mandible, indicating the individual was buried in a taphonomic environment characterized by alternating dry and wet conditions. Based on 14 morphological characteristics, a physical anthropologist determined the remains represent a (possibly) male individual 40-60 years old and of Native American ancestry (Gill 1998; Rhine 1990). Additionally, the very even and severe enamel wear indicate the mastication of population-specific coarse foods that characterized the diets of pre-contact and post-contact Native American populations (Buikstra and Ubelaker 1994). These characteristics, in addition to the Slater Museum's limited information, indicate that the individual is of Native American ancestry. The remains may have been removed from any location within Western Washington, which is considered by the Museum to include the 19 counties located between the Pacific Ocean and the Cascade Mountains. These include: Clallam, Clark, Cowlitz, Grays Harbor, Island, Jefferson, King, Kitsap, Lewis, Mason, Pacific, Pierce, San Juan, Skagit, Skamania, Snohomish, Thurston, Wahkiakum, and Whatcom Counties.

Determinations Made by the Slater Museum of Natural History, University of Puget Sound

Officials of the Slater Museum of Natural History, University of Puget Sound have determined that:

• Pursuant to 25 U.S.C. 3001(2), a relationship of shared group identity cannot be reasonably traced between the Native American human remains and any present-day Indian tribe.

• According to final judgments of the Indian Claims Commission, the land from which the Native American human remains were removed is the aboriginal land of The Tribes.

• Multiple lines of evidence, including treaties, Acts of Congress, and Executive Orders, indicate that the land from which the Native American human remains were removed is the aboriginal land of The Tribes and The Indian Groups.

• Other credible lines of evidence, indicate that the land from which the Native American human remains were removed is the aboriginal land of The Tribes and The Indian Groups.

• Pursuant to 25 U.S.C. 3001(9), the human remains described above represent the physical remains of one individual of Native American ancestry.

• Pursuant to 43 CFR 10.11(c)(1), the disposition of the human remains is to the Confederated Tribes and Bands of the Yakama Nation, Washington, and Puyallup Tribe of the Puyallup Reservation, Washington.

Additional Requestors and Disposition

Representatives of any Indian tribe that believes itself to be culturally affiliated with the human remains or any other Indian tribe that believes it satisfies the criteria in 43 CFR 10.11(c)(1) should contact Peter Wimberger, Slater Museum of Natural History, University of Puget Sound, 1500 North Warner St., Tacoma, WA 98416-1088, telephone (253) 879-2784, before August 22, 2011. Disposition of the human remains to the Confederated Tribes and Bands of the Yakama Nation, Washington, and Puyallup Tribe of the Puyallup Reservation, Washington, may proceed after that date if no additional requestors come forward.

The Slater Museum of Natural History, University of Puget Sound is responsible for notifying The Tribes and The Indian Groups that this notice has been published.

Dated: July 14, 2011.
Sherry Hutt,
Manager, National NAGPRA Program.

[FR Doc. 2011-18344 Filed 7-20-11; 8:45 am]

BILLING CODE 4312-50-P